DEPARTMENT OF LABOR

Employment and Training Administration

[TA-W-55,077 and TA-W-55,077A]

SMS DEMAG/PRO-ECO, Mentor, OH, SMS DEMAG/PRO-ECO, Solon, OH; Notice of Termination of Investigation

Pursuant to section 221 of the Trade Act of 1974, an investigation was initiated on June 14, 2004, in response to petition filed on behalf of workers at SMS DEMAG/PRO-ECO, Mentor, Ohio and Solon, Ohio.

All workers were separated from the subject firm more than one year prior to the date of the petition. Section 223(b) of the Act specifies that no certification may apply to any worker whose last separation occurred more than one year before the date of the petition. Consequently, further investigation in this case would serve no purpose, and the investigation has been terminated.

Signed in Washington, DC, this 18th day of June, 2004.
Richard Church,
Certifying Officer, Division of Trade Adjustment Assistance.

[FR Doc. 04-15314 Filed 7-6-04; 8:45 am]

BILLING CODE 4510-30-P